Memorandum of January 30, 2009

White House Task Force on Middle-Class Working Families

Memorandum for the Heads of Executive Departments and Agencies

For many years, middle-class Americans have been working harder, yet not enjoying their fair share of the fruits of a growing economy. While the productivity of the American workforce grew during the decade ending in 2007, middle-income workers saw their real incomes fall. The current economic situation has exacerbated the challenges facing middle-class Americans, with health care coverage, safe and steady employment opportunities, effective and affordable education, owning a home, and saving for retirement slipping out of reach. It is a high priority of my Administration to achieve a secure future for middle-class working families, one in which they share in prosperous times and are cushioned during hard times. To these ends, I hereby direct the following:

Section 1. White House Task Force on Middle-Class Working Families. There is established within the Office of the Vice President, a White House Task Force on Middle-Class Working Families (Task Force) to focus on raising the living standards of middle-class working families in the United States of America. The Vice President shall serve as Chair of the Task Force.

(a) Membership of the Task Force. In addition to the Vice President, the Task Force shall consist exclusively of the heads of the executive branch departments, agencies, and offices listed below:

(1) the Department of Commerce;

(2) the Department of Labor;

(3) the Department of Health and Human Services;

(4) the Department of Education;

(5) the Office of Management and Budget;

(6) the National Economic Council;

(7) the Domestic Policy Council;

(8) the Council of Economic Advisers; and

(9) such other executive branch departments, agencies, or offices as the President may designate.

A member of the Task Force may designate, to perform the Task Force functions of the member, any person who is a part of the member's department, agency, or office, and who is a full-time officer or employee of the Federal Government. At the direction of the Chair, the Task Force may establish subgroups consisting exclusively of Task Force members or their designees under this section, as appropriate.

(b) Administration of the Task Force. The Department of Labor shall provide funding and administrative support for the Task Force to the extent permitted by law and within existing appropriations. The Vice President shall designate an Executive Director of the Task Force, who shall coordinate the work of the Task Force.

Sec. 2. Mission and Functions of the Task Force. The Task Force shall work with a wide array of executive departments and agencies that have responsibility for key issues facing middle-class working families, expedite administrative reforms, propose Executive Orders, and develop legislative and policy proposals that can be of special importance to middle-class working families. The functions of the Task Force are advisory only and shall include, but shall not be limited to, producing a detailed set of recommendations to:

(a) expand education and lifelong training opportunities;

(b) improve work and family balance;

(c) restore labor standards, including workplace safety;

(d) protect the incomes of middle-class working families; and

(e) protect retirement security.

Sec. 3. Outreach. Consistent with the objectives set out in section 2 of this memorandum, the Task Force, in accordance with applicable law, in addition to regular meetings, shall conduct outreach with representatives of labor, business, nonprofit organizations, State and local government agencies, and other interested persons that will assist with the Task Force's development of a detailed set of recommendations.

Sec. 4. Transparency and Reports. The Task Force shall facilitate the posting on the Internet of submissions by outside parties and engage in an open, two-way dialogue with the American people. The Task Force shall present to the President annual reports, beginning 1 year from the date of this memorandum, on its findings and recommendations, which shall be made available to the public and posted on the Internet.

Sec. 5. General Provisions. (a) The heads of executive departments and agencies shall assist and provide information to the Task Force, consistent with applicable law, as may be necessary to carry out the functions of the Task Force. Each executive department and agency shall bear its own expense for participating in the Task Force.

(b) Nothing in this memorandum shall be construed to impair or otherwise affect:

(i) authority granted by law to an executive department, agency, or the head thereof; or

(ii) functions of the Director of the Office of Management and Budget relating to budgetary, administrative, or legislative proposals.

(c) This memorandum shall be implemented consistent with applicable law and subject to the availability of appropriations.

(d) This memorandum is not intended to, and does not, create any right or benefit, substantive or procedural, enforceable at law or in equity by any party against the United States, its departments, agencies, or entities, its officers, employees, or agents, or any other person.

Sec. 6. Publication. The Secretary of Labor is authorized and directed to publish this memorandum in the Federal Register.

THE WHITE HOUSE,

Washington, January 30, 2009

[FR Doc. E9-2436

Filed 2-2-09; 11:15 am]

Billing code 4510-23-P